DEPARTMENT OF HOUSING AND URBAN DEVELOPMENT

[Docket No. FR-4579-FA-26]

Announcement of Funding Award—FY 2002 and FY 2003, Lead-Based Paint Hazard Control; National Academy of Sciences

AGENCY: Office of the Secretary—Office of Healthy Homes and Lead Hazard Control.

ACTION: Announcement of funding award.

SUMMARY: In accordance with section 102(a)(4)(C) of the Department of Housing and Urban Development Reform Act of 1989, this announcement notifies the public of a funding decision made by the Department to the National Academy of Sciences of Washington, DC. This announcement contains the name and address of the awardee and the amount of the award.

FOR FURTHER INFORMATION CONTACT: Peter J. Ashley, Department of Housing and Urban Development, 451 Seventh Street, SW., Washington, DC, 20410, telephone (202) 755-1785, ext. 115. Hearing- or speech-impaired individuals may access this number by calling the Federal Information Relay Service TTY at 1-800-877-8339.

SUPPLEMENTARY INFORMATION: The Healthy Homes and Lead-Hazard Control Research grant for the National Academy of Sciences of Washington, DC was issued pursuant to Public Law 102-550, Title X, Residential Lead-Based Paint Hazard Reduction Act of 1992.

This notice announces the award of $700,000.00 to the National Academy of Sciences of Washington, DC, which will be used to fund a committee to review the research challenges and ethical issues that occur during the design and conduct of intervention research to control housing-related health hazards and protect the health of children and families, and compare and contrast them with those of traditional biomedical intervention research conducted on children.

The Catalog of Federal Domestic Assistance number for this program is 14,900.

In accordance with section 102(a)(4)(C) of the Department of Housing and Urban Development Reform Act of 1989 (103 Stat. 1987, 42 U.S.C. 3545), the Department is publishing the name, address, and amount of the award as follows:

National Academy of Sciences, Office of Contracts and Grants, 500 Fifth Street, NW., Washington, DC 20001.

Total Amount of Grant: $700,000.00.

Dated: December 18, 2003.
Joseph F. Smith,
Deputy Director, Office of Healthy Homes and Lead Hazard Control.

[FR Doc. 03-31914 Filed 12-29-03; 8:45 am]

BILLING CODE 4210-70-P